DEPARTMENT OF TRANSPORTATION

Surface Transportation Board

[Finance Docket No. 34391]

New England Transrail, LLC, d/b/a Wilmington and Woburn Terminal Railroad Co.—Construction, Acquisition, and Operation Exemption—in Wilmington and Woburn, MA

ACTION: Notice of availability of Environmental Assessment and Request for Comments.

SUMMARY: On December 3, 2003, New England Transrail, LLC d/b/a the Wilmington and Woburn Terminal Railroad Company (Applicant or W&WTR) filed a petition with the Surface Transportation Board (Board) pursuant to 49 United States Code (U.S.C.) 10502 seeking exemption from the formal application procedures of 49 U.S.C. 10901 for authority to acquire 1,300 feet of existing track, construct 2,700 feet of new line, and to operate the entire approximately 4,000 feet of track located on and adjacent to a parcel of land owned by Olin Corporation (Olin) in Wilmington, Massachusetts, upon which Olin had in the past operated a chemical plant. The Olin-owned parcel is located in Wilmington, Massachusetts, but a portion of the line to be constructed and operated by W&WTR also would be located in Woburn, Massachusetts. The Board's Section of Environmental Analysis (SEA) has prepared an Environmental Assessment (EA) for this proposed project. Based on the information provided from all sources to date and its independent analysis, SEA preliminarily concludes that the Proposed Action would have no significant environmental impacts if the Board imposes and the Applicant implements the environmental mitigation conditions recommended in the EA. Accordingly, SEA, recommends that if the Board approves the project, New England Transrail be required to implement the mitigation set forth in the EA. Copies of the EA have been served on all interested parties and will be made available to additional parties upon request. SEA will consider comments received when making its final environmental recommendation to the Board. The Board will consider SEA's final recommendations and the complete environmental record in making its final decision in this proceeding.

DATES: The EA is available for public review and comment for 30 days. Parties should provide written comments to the Board no later than September 3, 2004.

ADDRESSES: Comments (an original and one copy) should be sent to: Case Control Unit, Surface Transportation Board, 1925 K Street, NW., Washington, DC 20423. The lower left-hand corner of the envelope should be marked: Attention: Ms. Phillis Johnson-Ball, Environmental Comments, Finance Docket No. 34391. Environmental comments may also be filed electronically on the Board's Web site, http://www.stb.dot.gov by clicking on the “E-FILING” link.

FOR FURTHER INFORMATION CONTACT: Questions may be directed to Ms. Phillis Johnson-Ball, Environmental Project Manager, at (202) 565-1530 (hearing impaired 1-800-877-8339). The EA is available on the Board's Web site at http://www.stb.dot.gov.

SUPPLEMENTARY INFORMATION: The Applicant proposes to acquire the Olin property, construct a reload facility, and to rehabilitate the 1,300 feet of exiting track on the property, that is the subject of the Applicant's acquisition, to facilitate the transload of various commodities between truck trailers and rail cars.

Decided: July 29, 2004.
By the Board, Victoria J. Rutson, Chief, Section of Environmental Analysis.
Vernon A. Williams,
Secretary.

[FR Doc. 04-17641 Filed 8-3-04; 8:45 am]

BILLING CODE 4915-01-P